DEPARTMENT OF ENERGY

Federal Energy Regulatory Commission

[Docket No. EC02-62-000, et al.]

Canadian Niagara Power Company, Limited, et al.; Electric Rate and Corporate Regulation Filings

April 16, 2002.

Take notice that the following filings have been made with the Commission. Any comments should be submitted in accordance with Standard Paragraph E at the end of this notice.

1. Canadian Niagara Power Company, Limited

[Docket No. EC02-62-000]

Take notice that on April 12, 2002, Canadian Niagara Power Company Limited and Opinac Energy Corporation, tendered for filing, pursuant to section 203 of the Federal Power Act, 16 U.S.C. section 824b (1994), and Part 33 of the Commission's regulations, 18 CFR part 33 (2001), an application for authorization to dispose of jurisdictional facilities pursuant to the sale of all of the ownership interests of Opinac Energy Corporation in Canadian Niagara Power Company, Limited, to Fortis Inc.

Comment Date: May 3, 2002.

2. Central Maine Power Company

[Docket No. ER02-1221-000]

Take notice that on April 12, 2002, Central Maine Power Company (CMP) tendered for filing the an Executed Amendment to the Interconnection Agreement by and between CMP and Gardner Brook Hydro, designated as FERC Electric Tariff, Fifth Revised, Volume No. 3, Service Agreement No. 144, First Revision.

Comment Date: May 3, 2002.

3. Illinois Power Company

[Docket No. ER02-1516-000]

Take notice that on April 12, 2002, Illinois Power Company (Illinois Power), with the Federal Energy Regulatory Commission (Commission) an Emergency Energy Service Agreement entered into with City of Columbia, Missouri, Columbia Water and Light pursuant to Illinois Power's Emergency Energy Tariff.

Illinois Power requests an effective date of March 15, 2002, for the Agreement and accordingly seeks a waiver of the Commission's notice requirement. Illinois Power states that a copy of this filing has been sent to the customers

Comment Date: May 3, 2002.

4. Cinergy Services, Inc

[Docket No. ER02-1517-000]

Take notice that on April 12, 2002, Cinergy Services, Inc. (Cinergy) and Commonwealth Edison Company are requesting a cancellation of Service Agreements No.6 under Cinergy Operating Companies, FERC Electric Cost-Based Power Sales Tariff, and Market-Based Power Sales Tariff—FERC Electric Tariff Original Volume No.6 and Volume No. 7.

Cinergy requests an effective date of April 15, 2002.

Comment Date: May 3, 2002.

5. Cinergy Services, Inc.

[Docket No. ER02-1518-000]

Take notice that on April 12, 2002, Cinergy Services, Inc. (Cinergy) and Commonwealth Edison Company on April 11, 2002 are requesting a cancellation of Service Agreement No 31, under Cinergy Operating Companies, FERC Electric Resale of Transmission Rights and Ancillary Service Rights, FERC Electric Tariff Original Volume No. 8.

Cinergy requests an effective date of April 15, 2002.

Comment Date: May 3, 2002.

6. Plains End, LLC

[Docket No. ER02-1519-000]

Take notice that on April 12, 2002, Plains End, LLC (Plains End) tendered for filing a Power Purchase Agreement for power sales (Agreement) with Public Service Company of Colorado (PSCO) pursuant to which Plains End will sell electric wholesale services to PSCO at market-based rates according to its FERC Electric Tariff, Original Volume No. 1.

Comment Date: May 3, 2002.

7. PECO Energy Company

[Docket No. ER02-1520-000]

Take notice that on April 12, 2002, PECO Energy Company (PECO) submitted for filing the following Construction Agreements between PECO and FPL Energy Marcus Hook, L.P. (FPL). Construction Agreement for Attachment Facilities and Construction Agreement for Network upgrades, both related to the Marcus Hook Electric Generating Station. The Construction Agreements were respectively designated as Service Agreement 666 and 667 under PJM Interconnection L.L.C.'s (PJM) FERC Electric tariff Fourth Revised Volume No. 1.

The proposed effective date for the Construction Agreement for Attachment Facilities is March 19, 2002 and the proposed effective date for the Construction Agreement for Network upgrades is April 3, 2002. Copies of this filing were served on FPL and PJM.

Comment Date: May 3, 2002.

8. Central Maine Power Company

[Docket No. ER02-1521-000]

Please take notice that on April 12, 2002 , Central Maine Power Company (CMP) tendered for filing a service agreement for Non-firm Local Point-to-Point Transmission Service entered into with Gardner Brook Hydro under its new ownership. Service will be provided pursuant to CMP's Open Access Transmission Tariff, designated rate schedule CMP-FERC Electric Tariff, Original Volume No. 3, Fifth Revision, Service Agreement No. 157.

CMP also requests termination of FERC Electric Tariff, Original Volume No. 3, Fifth Revision, Service Agreement No. 156, submitted for filing on March 11, 2002 under Docket No. ER02-1301-000, to reflect the sale of the hydro facility on March 20, 2002.

Comment Date: May 3, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-9893 Filed 4-22-02; 8:45 am]

BILLING CODE 6717-01-P